DEPARTMENT OF COMMERCE

National Oceanic and Atmospheric Administration

RIN 0648-XA34

Notice of Availability of Draft Stock Assessment Reports

AGENCY: National Marine Fisheries Service (NMFS), National Oceanic and Atmospheric Administration (NOAA), Commerce.

ACTION: Notice of availability; request for comments.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on draft 2007 SARs.

DATES: Comments must be received by September 26, 2007.

ADDRESSES: The 2007 draft stock assessment reports are available in electronic form via the Internet at http://www.nmfs.noaa.gov/pr/sars/.

Copies of the Alaska Regional SARs may be requested from Robyn Angliss, Alaska Fisheries Science Center, NMFS, 7600 Sand Point Way, NE BIN 15700, Seattle, WA 98115-0070.

Copies of the Atlantic and Gulf of Mexico Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

Send comments or requests for copies of reports to: Chief, Marine Mammal and Sea Turtle Conservation Division, Office of Protected Resources, National Marine Fisheries Service, 1315 East-West Highway, Silver Spring, MD 20910-3226, Attn: Stock Assessments. Comments may also be sent via facsimile (fax) to 301-427-2526 or via email to mmsar.2007@noaa.gov.

FOR FURTHER INFORMATION CONTACT: Tom Eagle, Office of Protected Resources, 301-713-2322, ext. 105, e-mail Tom.Eagle@noaa.gov; Robyn Angliss 206- 526-4032, e-mail Robyn.Angliss@noaa.gov, regarding Alaska regional stock assessments; Gordon Waring, 508-495-2311, e-mail Gordon.Waring@noaa.gov, regarding Atlantic regional stock assessments; or Jim Carretta, 858-546-7171, e-mail Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Alaska, Atlantic, and Pacific regions to incorporate new information. NMFS solicits public comments on the draft 2007 SARs.

Alaska Reports

Twelve reports (11 strategic stocks and one non-strategic stock) were revised, and 24 reports were not revised. Most revisions included updates of abundance and mortality estimates and did not indicate a change in status of the affected stocks. The abundance of AT1 killer whales was reduced from eight to seven whales because one animal has not been seen in recent years and is presumed to have died.

The “Status of Stock” section of the gray whale, western North Pacific stock, was updated to show that the best available scientific information indicates the stock is within its Optimum Sustainable Population levels. The gray whale stock was estimated to be between 71 percent and 102 percent of its current carrying capacity in 2002.

The “Habitat Concerns” sections of the reports for Steller sea lions, western U.S. stock, and northern fur seals, Eastern Pacific stock, were expanded. Threats to the Steller sea lion stock were presented in a draft recovery plan released for public review and comment in May 2006 (71 FR 29919, May 24, 2006), and a summary of these threats was included in the revised SAR. For northern fur seals, the SAR was updated to include recent information, including the overlap in sizes of fish taken by fur seals and by commercial fishing.

Atlantic Reports

Fifty-six reports (16 strategic and 40 non-strategic) were revised in the Atlantic region, including all reports for marine mammals in the Gulf of Mexico. Two reports were not revised. Most updates were to include new abundance and mortality estimates and did not change the status of the affected stocks. The status of harbor porpoise, Gulf of Maine/Bay of Fundy stock, was updated to be strategic because human-caused mortality and serious injury have increased and PBR has decreased since the last mortality and abundance estimates were completed.

Pacific Reports

Twenty-nine reports (9 strategic and 20 non-strategic) were revised in the Pacific region. Thirty-two reports were not revised. Most revisions included updates of mortality or abundance estimates and did not result in a change in status of the affected stocks.

A new stock of false killer whales (Palmyra Atoll) has been added to this year's reports to reflect the availability of new genetic information for this species in the Pacific Islands Region. Both the Hawaii and Palmyra Atoll false killer whale stocks are included in a single report, labeled the “Pacific Islands Region Stock Complex”. The reasons for combining stocks into one species report are to consolidate general text about the species and present all stock-specific abundance and mortality information on false killer whales within waters under the jurisdiction of the United States in a single report.

The status of two stocks (California/Oregon/Washington short-finned pilot whales and California long-beaked common dolphins) has changed from “not strategic” to “strategic”. The change resulted from new estimates of abundance, which have decreased for both stocks since the last revision, and updates of incidental fishery mortality levels, which increased for long-beaked common dolphins.

The name of the stock previously referred to as “East North Pacific Humpback Whale” has been changed to “California/Oregon/Washington Humpback Whale”. Recent genetics information confirms that the stock is demographically independent from other aggregations of humpback whales in the Eastern North Pacific Ocean; therefore, the feeding aggregation is appropriately identified as a separate stock. The new stock identity did not substantially modify the PBR of the stock because, in accordance with NMFS' guidelines for preparing SARs, the PBR had been estimated by using the abundance of whales in this aggregation. However, the revised abundance estimate is slightly higher, which resulted in a slight increase in PBR.

Dated: June 22, 2007.
Helen M. Golde,
Deputy Director, Office of Protected Resources, National Marine Fisheries Service.

[FR Doc. E7-12561 Filed 6-27-07; 8:45 am]

BILLING CODE 3510-22-S